DEPARTMENT OF TRANSPORTATION

Federal Aviation Administration

[Summary Notice No. PE-2000-71]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before January 8, 2000.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at ­http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, DC., on December 13, 2000.
Donald P. Byrne,
Assistant Chief Counsel for Regulations.

Dispositions of Petitions

Docket No.: FAA-2000-8187.

Petitioner: Department of the Air Force.

Section of 14 CFR Affected: 14 CFR 91.169(b).

Description of Relief Sought/Disposition: To permit the Department of Air Force to list alternate airports in instrument flight rules (IFR) flight plans for military aircraft in accordance with regulations prescribed by the Department of the Air Force Grant, 11/28/2000, Exemption No. 7389

Docket No.: FAA-2000-8140.

Petitioner: Alaska Island Air, Inc.

Section of 14 CFR Affected: 14 CFR 135.143(c)(2).

Description of Relief Sought/Disposition: To permit ASA to operate certain aircraft under part 135 without a TSO-C112 (Mode S) transponder installed in the aircraft. Grant, 11/28/2000, Exemption No. 7387

Docket No.: FAA-2000-8050.

Petitioner: Alexandria Aviation, Inc.

Section of 14 CFR Affected: 14 CFR 135.143(c)(2).

Description of Relief Sought/Disposition: To permit AAI to operate certain aircraft under part 135 without a TSO-C112 (Mode S) transponder installed in the aircraft. Grant, 11/28/2000, Exemption No. 7384

Docket No.: FAA-2000-8084.

Petitioner: Alpine Helicopters, Inc.

Section of 14 CFR Affected: 14 CFR 135.143(c)(2).

Description of Relief Sought/Disposition: To permit AHI to operate certain aircraft under part 135 without a TSO-C112 (Mode S) transponder installed in the aircraft. Grant, 11/28/2000, Exemption No. 7385

Docket No.: FAA-2000-7990.

Petitioner: Lake and Peninsula Airlines, Inc.

Section of 14 CFR Affected: 14 CFR 135.143(c)(2).

Description of Relief Sought/Disposition: To permit LPA to operate certain aircraft under part 135 without a TSO-C112 (Mode S) transponder installed in the aircraft. Grant, 11/28/2000, Exemption No. 7388

Docket No.: FAA-2000-7988.

Petitioner: RGT Air Freight.

Section of 14 CFR Affected: 14 CFR 135.143(c)(2).

Description of Relief Sought/Disposition: To permit RGT to operate certain aircraft under part 135 without a TSO-C112 (Mode S) transponder installed in the aircraft. Grant, 11/28/2000, Exemption No. 7386

Docket No.: FAA-2000-8178.

Petitioner: Compoende Aeronáutica Ltda.

Section of 14 CFR Affected: 14 CFR 145.47(b).

Description of Relief Sought/Disposition: To permit Compoende to use the calibration standards of the Instituto Nacional de Metrologia, Normalização e Qualidade Industrial in lieu of the calibration standards of the U.S. National Institute of Standards and Technology to test its inspection and test equipment. Grant, 11/30/2000, Exemption No. 6550C.

Docket No.: FAA-2000-7983.

Petitioner: Whisper Airlines, Inc.

Section of 14 CFR Affected: 14 CFR 133.43(a) and (b).

Description of Relief Sought: To permit Whisper Airlines, Inc., to use its helicopters to conduct acts by an aerial performer on certain rigging apparatuses without using an approved external-load-attaching means or an approved quick-release device. Grant, 11/20/2000, Exemption No. 6563B.

Docket No.: FAA-2000-8100.

Petitioner: Northwest Airlines, Inc.

Section of 14 CFR Affected: 14 CFR 121.401(c), 121.433(c)(1)(iii), 121.440(a), and 121.441(a)(1) and (b)(1); appendix F to part 121; and Special Federal Aviation Regulation (SFAR) No. 58, paragraph 6(b)(4)(ii)(A).

Description of Relief Sought: To allow NWA to combine recurrent flight and ground proficiency checks for NWA's flight crewmembers in a single annual training and proficiency evaluation program and meet the line check requirements of 121.440(a) and SFAR No. 58 through an FAA-approved alternative line check program. Grant, 11/20/2000, Exemption No. 5815D.

Docket No.: FAA-2000-7945.

Petitioner: Boeing Commercial Airplane Group.

Section of 14 CFR Affected: 14 CFR 61.57(a) and (b).

Description of Relief Sought/Disposition: To permit Boeing production and engineering flight test pilots to use any type of Boeing airplane or Level B, C, or D simulator that represents any type of Boeing airplane to meet the takeoff and landing recency of experience requirements of § 61.57 without Boeing holding a 14 CFR part 142 certificate. Grant, 11/20/2000, Exemption No. 6843A.

[FR Doc. 00-32180 Filed 12-15-00; 8:45 am]

BILLING CODE 4910-13-M